DEPARTMENT OF TRANSPORTATION

National Highway Traffic Safety Administration

[Docket No. NHTSA-00-8228]

Session of the United Nations Economic Commission for Europe World Forum for the Harmonization of Vehicle Regulations

AGENCY: National Highway Traffic Safety Administration (NHTSA), Department of Transportation.

ACTION: Notice regarding upcoming UN/ECE WP.29 Session in Geneva, Switzerland.

SUMMARY: The UN/ECE World Forum for the Harmonization of Vehicle Regulations (UN/ECE WP.29) will hold its one hundred and twenty second session on November 7-10, 2000. The purpose of this notice is to inform the public that NHTSA will not be ready at that session in Geneva to submit its recommendations concerning the establishment of priorities under the 1998 Global Agreement. Further, NHTSA has decided that holding a public meeting to discuss the upcoming November session is not warranted.

FOR FURTHER INFORMATION CONTACT: Ms. Julie Abraham, Director, Office of International Policy and Harmonization, NPP-01, National Highway Traffic Safety Administration, 400 Seventh Street, SW., Washington, DC 20590. Telephone: (202) 366-2114. Fax: (202) 366-2559.

SUPPLEMENTARY INFORMATION:

I. NHTSA's Final Recommendations

The United Nations Economic Commission for Europe (UN/ECE) Agreement Concerning the Establishing of Global Technical Regulations for Wheeled Vehicles, Equipment and Parts Which Can Be Fitted and/or Used on Wheeled Vehicles (1998 Global Agreement) has entered into force on August 25, 2000. In anticipation of the agreement's entry into force, the National Highway Traffic Safety Administration (NHTSA) issued a notice on July 12, 2000, seeking public comments on its preliminary recommendations for the first motor vehicle safety technical regulations or aspects of regulations to be considered for establishment under the 1998 Global Agreement.

In the notice (published July 18, 2000; 65 Fed. Reg. 44565), NHTSA categorized its recommendations into two main groups: (1) priority recommendations and (2) other recommendations. The priority items included generally those foreign standards and/or aspects of those standards that may represent best current safety practices from existing national and regional regulations, and whose addition to the existing Federal Motor Vehicle Safety Standard (FMVSS) would improve the level of vehicle safety in the U.S. In the notice, the agency stated that, in allocating its resources, it will give priority to the recommendations in this category.

The “Other Recommendations” group comprised those U.S. standards or aspects of those standards that may represent best current safety practices and should be therefore considered by other contracting parties to the 1998 Global Agreement in the establishment of global technical regulations.

In addition to the above mentioned categories, the notice also referred to the suggestions that had been received by the United Nations' Economic Commission for Europe World Forum for Harmonization of Vehicle Regulations (WP.29) from the governments of Japan and the Russian Federation and various industry and consumer groups. These suggestions are posted in the NHTSA docket (NHTSA-00-7638).

In the notice, NHTSA sought comments on its preliminary recommendations. It specifically asked whether any changes should be made to its list of preliminary recommendations and whether any of the standards listed in the proposals submitted to WP.29 by other governments and by non-governmental organizations should be added to NHTSA's list. In addition, NHTSA asked whether the agency's rulemaking priority activities under the Vehicle Safety Act and those under WP.29 should be linked, and if so, to what extent?

NHTSA received comments from Advocates for Highway and Auto Safety, the Alliance of Automobile Manufacturers, Flat Glass Manufacturers Association of Japan, Honda, the International Organization of Motor Vehicle Manufacturers (OICA), the Rubber Manufacturers Association, and Toyota.

NHTSA had anticipated completing its consideration of the public comments and publishing a revised list of recommendations prior to the November 7-10, 2000 meeting of WP.29 so that it could formally present its recommendations to WP.29 at that meeting. However, the agency has not completed its analysis of the comments and will not be ready to make such a proposal at the November 2000 meeting. The agency anticipates completing its analysis and publishing the final list prior to the March 2001 meeting and then submitting it at that meeting.

II. Upcoming November 7-10, 2000 WP.29 Meeting

In its Statement of Policy on Agency Policy Goals and Public Participation in the Implementation of the 1998 Agreement on Global Technical Regulations (published August 23, 2000; 65 Fed. Reg. 51236), NHTSA stated that it would hold periodic public meetings on its activities under the 1998 Global Agreement. It said further that if the extent of recent and anticipated significant developments concerning those activities so warrant, NHTSA would hold a public meeting within the 60-day period before each of the three sessions of WP.29 held annually.

NHTSA decided that holding a public meeting before the November WP.29 meeting was not warranted. Although NHTSA anticipates that the first meeting of the Executive Committee of the 1998 Global Agreement will take place during this session, that meeting will not address the setting of priorities or the establishing of particular standards under that Agreement. The meeting will focus instead on discussing the administrative procedures that will be followed in implementing the 1998 Global Agreement such as the working of the Compendium, meeting time for the Executive Committee, etc. The technical regulations listed on the agenda are those being considered under the 1958 Agreement. For information purposes, NHTSA has placed the agenda for the November 2000 meeting in the docket for this notice.

Issued on November 2, 2000.
Julie Abraham,
Director, Office of International Policy and Harmonization.

[FR Doc. 00-28532 Filed 11-02-00; 8:45 am]

BILLING CODE 4910-59-P